DEPARTMENT OF COMMERCE

National Oceanic and Atmospheric Administration

[RTID 0648-XS031]

Fisheries of the Caribbean, Gulf of Mexico, and South Atlantic; Amendment 53 to the Fishery Management Plan for the Reef Fish Resources of the Gulf of Mexico

AGENCY: National Marine Fisheries Service (NMFS), National Oceanic and Atmospheric Administration (NOAA), Commerce.

ACTION: Notice of intent (NOI) to prepare a draft environmental impact statement (DEIS); request for comments.

SUMMARY: NMFS, Southeast Region, in collaboration with the Gulf of Mexico Fishery Management Council (Council) intends to prepare a DEIS to describe and analyze management alternatives to be included in Amendment 53 to the Fishery Management Plan (FMP) for the Reef Fish Resources of the Gulf of Mexico (Amendment 53). Amendment 53 will address the conservation and management of Gulf of Mexico red grouper and will consider alternatives to revise the commercial and recreational sector allocation, the overfishing limit (OFL), acceptable biological catch (ABC), annual catch limits (ACLs), and annual catch targets (ACTs). The purpose of this NOI is to solicit public comments on the scope of issues to be addressed in the DEIS.

DATES: Written comments on the scope of issues to be addressed in the DEIS must be received by NMFS by May 21, 2020.

ADDRESSES: You may submit comments on Amendment 53 identified by “NOAA-NMFS-2020-0062” by any of the following methods:

• Electronic Submissions: Submit electronic comments via the Federal e-Rulemaking Portal: http://www.regulations.gov. Go to www.regulations.gov/#!docketDetail;D=NOAA-NMFS-2020-0062, click the “Comment Now!” icon, complete the required fields, and enter or attach your comments.

• Mail: Submit written comments to Peter Hood, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Peter Hood, Southeast Regional Office, telephone: 727-824-5305; or email: Peter.hood@noaa.gov.

SUPPLEMENTARY INFORMATION: The status of the Gulf red grouper stock was evaluated in the Southeast Data, Assessment, and Review (SEDAR) 61 stock assessment that was completed in 2019. The results of SEDAR 61 indicated that the Gulf red grouper stock is not considered overfished or undergoing overfishing. However, fishermen and the Council have expressed concern about the health of the stock because of a decrease in landings, fewer legal sized fish, and a recent red tide event off the west coast of Florida. All weights described in this notice are in gutted weight.

In 2018, the Council noted that the combined commercial and recreational Gulf red grouper landings have trended downwards from over 7.26 million lb (3.29 million kg) in 2014 to approximately 4.16 million lb (1.89 million kg) in 2017. The Council also heard public testimony, primarily from commercial fishermen, who noted that Gulf red grouper are harder to catch and that there appears to less legal-size and larger fish throughout the species' range on the west Florida shelf. In addition, the Council's Scientific and Statistical Committee (SSC) reviewed an interim stock analysis conducted by the NMFS Southeast Fisheries Science Center (SEFSC) and concluded that the stock may be declining. Therefore, the SSC recommended that the Council reduce the 2019 Gulf red grouper total ACL from 10.70 million lb (4.85 million kg) to 4.60 million lb (2.09 million kg). The Council decided on a more precautionary approach and reduced the 2019 ACL to 4.16 million lb (1.89 million kg), which was the equal to the 2017 harvest (84 FR 52036; October 1, 2019).

The SSC reviewed the SEDAR 61 stock assessment in September 2019. To predict recreational fishing effort and landings, the assessment used the historical time series of recreational landings that has been fully-calibrated to the new Marine Recreational Information Program (MRIP) Fishing Effort Survey (FES). This survey provides a better estimate of recreational effort and landings than the previous MRIP survey, and indicates that landing estimates for many species, including Gulf red grouper, are greater than previously thought. As a result, the calibrated historical recreational landings, when compared to commercial landings, are greater than the current allocation of 24 percent recreational and 76 percent commercial, which was established in 2009 based on the average landings from 1986 through 2005.

The Council's SSC agreed with the determination in SEDAR 61 that the Gulf red grouper stock was not overfished or experiencing overfishing, but recognized the stock may have been adversely affected by the 2018 red tide event. Therefore, the SSC recommended that the catch level projections produced by the assessment assume that the impact from the 2018 red tide is approximately the same as the impact of a red tide event that occurred in 2005. In January 2020, the SSC received additional information about how different sector allocations impact the OFL and ABC projections produced by the assessment. The SEFSC explained that if the commercial and recreational allocation is changed to better reflect historical recreational harvest based on the FES-adjusted MRIP landing estimates, the projected OFL and ABC are less than if the allocation remains the same. This reduction is caused by changes in the estimated size distribution of harvested fish and greater estimates of discarded fish by the recreational sector.

The Council and NMFS are currently considering two actions in Amendment 53. The first action would revise the Gulf red grouper allocation between the commercial and recreational sectors. The Council is currently considering historical landings as a basis to revise the allocation. For the second action, the Council is considering revising the sector ACLs and ACTs based on the allocation selected in the first action of Amendment 53 and the results of SEDAR 61. The Council and NMFS may add actions to Amendment 53 in the future, such as recreational bag limits, minimum size limits, and seasonal closures, after the scoping process or based on future discussions of this amendment.

NMFS, in collaboration with the Council, will develop a DEIS to describe and analyze alternatives to address the management needs described above including the “no action” alternatives. In accordance with the Companion Manual to NOAA Administrative Order 216-6A, Section 8(B), Scoping Requirements for an EIS, NMFS, in collaboration with the Council, has identified preliminary environmental issues as a means to initiate discussion for scoping purposes only. The public is invited to provide written comments on the preliminary issues, which are identified as actions in the Amendment 53 draft options paper. These preliminary issues may not represent the full range of issues that eventually will be evaluated in the DEIS. A copy of the Amendment 53 draft options paper is available at https://www.fisheries.noaa.gov/action/amendment-53-red-grouper-allocations-and-catch-levels.

After the DEIS associated with Amendment 53 is completed, it will be filed with the Environmental Protection Agency (EPA). After filing, the EPA will publish a notice of availability (NOA) of the DEIS for public comment in the Federal Register. The DEIS will have a 45-day comment period. This procedure is pursuant to regulations issued by the Council on Environmental Quality (CEQ) for implementing the procedural provisions of the National Environmental Policy Act (NEPA; 40 CFR parts 1500-1508) and the Companion Manual to NOAA Administrative Order 216-6A.

The Council and NMFS will consider public comments received on the DEIS in developing the final environmental impact statement (FEIS), and before the Council votes to submit the final amendment to NMFS for Secretarial review, approval, and implementation. NMFS will announce in the Federal Register the availability of the final amendment and FEIS for public review during the Secretarial review period, and will consider all public comments prior to final agency action to approve, disapprove, or partially approve the final amendment. During Secretarial review, NMFS will also file the FEIS with the EPA and the EPA will publish an NOA for the FEIS in the Federal Register.

NMFS will announce, through a document published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: April 15, 2020.
Hélène M.N. Scalliet,
Acting Director, Office of Sustainable Fisheries, National Marine Fisheries Service.

[FR Doc. 2020-08438 Filed 4-20-20; 8:45 am]

BILLING CODE 3510-22-P